DEPARTMENT OF COMMERCE

Foreign-Trade Zones Board

[B-88-2016]

Foreign-Trade Zone (FTZ) 68—El Paso, Texas; Notification of Proposed Production Activity; PGTEX USA, Inc. (Fiber Glass Fabrics); El Paso, Texas

PGTEX USA, Inc. (PGTEX) submitted a notification of proposed production activity to the FTZ Board for its facility in El Paso, Texas, within FTZ 68. The notification conforming to the requirements of the regulations of the FTZ Board (15 CFR 400.22) was received on December 19, 2016.

The PGTEX facility is located within Site 3 of FTZ 68. The facility is used for the production of fiber glass fabrics used in a variety of applications: Wind turbine blades, sporting goods, autos, shipbuilding, building materials and aerospace. Pursuant to 15 CFR 400.14(b), FTZ activity would be limited to the specific foreign-status materials and components and specific finished product described in the submitted notification (as described below) and subsequently authorized by the FTZ Board.

The components and materials sourced from abroad include yarns (glass fiber) (HTSUS 7019.19), glass fibers (HTSUS 7019.90), and polyester yarn (HTSUS 5402.33) (duty rates range from 4.3 to 6.5%). The applicant indicates that these foreign-sourced materials/components will be admitted to the FTZ in privileged foreign status (19 CFR 146.41). This would preclude inverted tariff benefits on such items on its domestic sales of fiber glass fabrics. Production under FTZ procedures could exempt PGTEX from customs duty payments on the foreign-status components used in export production. Customs duties also could possibly be deferred or reduced on foreign-status production equipment.

Public comment is invited from interested parties. Submissions shall be addressed to the FTZ Board's Executive Secretary at the address below. The closing period for their receipt is February 14, 2017.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: December 28, 2016.
Elizabeth Whitman,
Acting Executive Secretary.

[FR Doc. 2016-32027 Filed 1-4-17; 8:45 am]

BILLING CODE 3510-DS-P